DEPARTMENT OF COMMERCE

Census Bureau

Field Representative Exit Questionnaire (BC-1294/1294(D))

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 14, 2005.

ADDRESSES: Direct all written comments to Diana Hynek , Departmental Paperwork Clearance Officer, Department of Commerce, Room 6086, 14th and Constitution Avenue, NW., Washington, DC 20230 (or via the Internet at mclayton@doc.gov).

FOR FURTHER INFORMATION CONTACT: Requests for additional information or copies of the information collection instrument(s) and instructions should be directed to Geraldine Burt, Census/Field Division, Room 1784/FOB 3, Washington, DC 20233-4400, and 301-763-1935.

SUPPLEMENTARY INFORMATION:

I. Abstract

Retention of trained field interviewing staff is a major concern for the Census Bureau because of both the monetary costs associated with employee turnover, as well as the potential impact on data quality. The Field Representative Exit Survey is used to collect data from a sample of our former current survey interviewers (field representatives) and decennial operations interviewers (enumerators). The purpose of the Field Representative Exit Survey is to determine the reasons for interviewer turnover and what the Census Bureau might do to help reduce its turnover rate for interviewing staff.

We will use Form BC-1294 to collect data from field representatives who leave the Census Bureau. We will use Form BC-1294(D) to collect data from the enumerators hired to work on the 2010 Test Census in 2005/2006 (and in the 2008 Dress Rehearsal in 2007) who stop working voluntarily before the operation for which they were hired is completed. Both forms ask questions about the factors that affected an interviewer's decision regarding voluntarily leaving employment with the Census Bureau. The BC-1294 and BC-1294(D) cover the same topics, but the questions and response choices on the BC-1294(D) have been tailored to decennial census operations.

Interviewer turnover is of heightened concern during a decennial census because of the short time periods for data collection operations and the potential adverse impact excessive turnover would have on completing operations as scheduled. The 2010 Test Censuses are being used by the Census Bureau to test and experiment with procedures in a simulated census environment in preparation for the 2010 Census. The second of the major field tests for the 2010 Test Census will be conducted in 2006. The primary goal of the 2006 Census Test will be to test and improve the field and automated systems needed to support the major design components of the 2010 Census. The results of the 2006 Census Tests will inform the design of the 2008 Dress Rehearsal. Emphasis in the 2006 Census Test will be on continuing the assessment of new methods and systems proposed for 2010, including an analysis of the impact of the use of hand-held computers for locating addresses and route planning, interviewing and collection of Global Positioning Systems (GPS) coordinates on field staffing.

The information collected via the Field Representative Exit Survey will help the Census Bureau develop plans to reduce turnover in its current survey and decennial interviewing staff. These results allow for better informed management decisions regarding the field work force and the implementation of more effective recruitment, pay plans, interviewer training, and retention strategies for both current and decennial interviewers.

II. Method of Collection

The data will be collected by telephone. Interviews with former current survey field representatives should take approximately seven (7) minutes. We estimate that interviews will be conducted with a total of 500 field representatives on a yearly basis. Approximately every month, a sample of one-half of all field representatives who voluntarily resigned within the period will be contacted by telephone to complete a BC-1294 questionnaire.

The form BC-1294(D) contains a few more questions related to decennial census working conditions, including the impact of proposed automation of some data collection operations. Interviews with former enumerators should take approximately ten (10) minutes. Initial hiring for the 2006 Test Census is scheduled to begin in 2005 for early operations. The 2010 Census Dress Rehearsal is scheduled for 2008, with initial hiring to begin in 2007. It is estimated that interviews will be conducted with 375 former enumerators in 2005, 2006, and 2007. Beginning approximately two weeks after the start of the 2006 Tests Census operations in 2005 (and in 2007 for the 2008 Dress Rehearsal), a sample of enumerators who have continuously been in a non-pay status for a period of two weeks will be contacted by telephone to complete a BC-1294(D) questionnaire.

III. Data

OMB Number: 0607-0404.

Form Number: BC-1294, BC-1294(D).

Type of Review: Regular Submission.

Affected Public: Former Census Bureau Interviewers (Field Representatives and Enumerators).

Estimated Number of Respondents: 500 Former Current Survey Interviewers; 375 Former 2010 Test Census Enumerators.

Estimated Time Per Response: 7 minutes for Former Current Survey Interviewers; 10 minutes for Test Census Enumerators.

Estimated Total Annual Burden Hours:

FY05:

59 hours for former Current Survey Interviewers.

10 hours for former 2010 Test Census Enumerators (2006 Test early operations).

69 Total Hours.

FY06:

59 hours for former Current Survey Interviewers.

54 hours for former 2010 Test Census Enumerators (2006 Test).

113 Total Hours.

FY07:

59 hours for former Current Survey Interviewers.

10 hours for former 2010 Test Census Enumerators (2008 Dress Rehearsal early operations).

69 Total Hours.

Estimated Total Annual Cost: There is no cost to respondents other than their time.

Respondent's Obligation: Voluntary.

Legal Authority: Title 5 U.S.C. 3101 and Title 13 U.S.C. 23.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 6, 2005.
Madeleine Clayton,
Management Analyst, Office of the Chief Information Officer.

[FR Doc. 05-564 Filed 1-11-05; 8:45 am]

BILLING CODE 3510-07-P